DEPARTMENT OF TRANSPORTATION

[Docket No. DOT-OST-2023-0174]

Notice of Establishment of Aerospace Supply Chain Resiliency Task Force

AGENCY: Office of the Under Secretary for Transportation Policy, Department of Transportation (DOT).

ACTION: Notice of the establishment of the Aerospace Supply Chain Resiliency (ASCR) Task Force.

SUMMARY: DOT is announcing the establishment of the ASCR Task Force. The ASCR Task Force is required by section 106 of the Consolidated Appropriations Act of 2023, enacted December 29, 2022. This notice outlines DOT's plan for implementation of this Task Force, including the dates of Task Force meetings. DOT will publish any future updates on the DOT web page. See further details within the SUPPLEMENTARY INFORMATION section of this notice.

DATES: The ASCR Task Force is established on the date of publication of this Federal Register Notice and will end when the Task Force submits its report to Congress.

ADDRESSES: The four official meetings of the Task Force will take place in person at U.S. DOT Headquarters, 1200 New Jersey Avenue SE, Washington, DC 20590. See Section 6 for further information about the schedule, location, and nature of the Task Force meetings.

FOR FURTHER INFORMATION CONTACT: Elliott Black, Facilitator, ASCR Task Force, Office of the Under Secretary for Transportation Policy, at (202) 924-0588 or email elliott.black1@dot.gov.

SUPPLEMENTARY INFORMATION: DOT is hereby announcing the establishment of a new Aerospace Supply Chain Resiliency (ASCR) Task Force. The ASCR Task Force is required by Section 106 of the Consolidated Appropriations Act of 2023 (Pub. L. 117-328), enacted December 29, 2022. This notice outlines DOT's plan for implementation of this Task Force, including the dates of Task Force meetings.

The remainder of this notice includes:

1. Summary of statutory requirements (including the scope and purpose of the new Task Force).

2. Structure and composition of the Task Force.

3. Opportunities for others to provide input to the Task Force.

4. Proceedings, records, and nature of the required reports.

5. Relationship to other initiatives.

6. Schedule, location, and nature of the Task Force meetings.

7. Other Information.

1. Summary of Statutory Requirements

The statute established the purpose of the Task Force as to “Identify and assess risks to United States aerospace supply chains, including the availability of raw materials and critical manufactured goods, with respect to major end items produced by the aerospace industry; and the infrastructure of the National Airspace System; and identify best practices and make recommendations to mitigate those risks and support a robust United States aerospace supply chain.”

Accordingly, DOT has established the Task Force as required by the statute, to focus on the scope as set forth in statute. DOT will facilitate the Task Force and encourage all members to consider both current and emerging issues, including issues driven by new and evolving technologies as well as other external factors and trends.

The statute also established the maximum size of the Task Force, and a minimum list of required disciplines to be represented. Please see Section 2 (“Structure and composition of the Task Force”) for further information.

The statute also established several schedule requirements. Please see Section 5 (“Schedule, location, and nature of the Task Force meetings”) for further information.

The statute specifically exempted the Task Force from the Federal Advisory Committee Act (FACA). Accordingly, this Notice describes the parameters by which the Task Force will function.

2. Structure and Composition of the Task Force

The statute outlined 16 specific industry perspectives that must be represented, including six manufacturing categories, six operational categories, and four labor categories. The statute requires the Secretary to appoint “Individuals with expertise in logistics, economics, supply chain management, or another field or discipline related to the resilience of industrial supply chains.”

The members of the Task Force are listed below, including both primary representatives and alternate representatives in case any primary representative is unavailable to participate in one or more of the Task Force meetings:

• Sarah MacLeod, Primary member (Christian Klein, alternate), Aeronautical Repair Station Association (ARSA).

• Dak Hardwick, Primary member (Di Reimold, alternate), Aerospace Industries Association (AIA).

• Carey Fagan, Primary member (Rugger Smith, alternate), Air Traffic Control Association (ATCA).

• Richard (Ric) Peri, Primary member (Mike Adamson, alternate), Aircraft Electronics Association (AEA).

• James (“Jim”) Coon, Primary member (Murray Huling, alternate), Aircraft Owners and Pilots Association (AOPA).

• Bob Ireland, Primary member (Justin Madden, alternate), Airlines for America (A4A).

• Michael Robbins, Primary member (Max Rosen, alternate), Association for Uncrewed Vehicle Systems International (AUVSI).

• Isaiah Wonnenberg, Primary member (Mary Guenther, alternate), Commercial Spaceflight Federation (CSF).

• Hassan Shahidi, Primary member (Deborah Kirkman, alternate), Flight Safety Foundation (FSF).

• Paul Feldman, Primary member (Joe Sambiase, alternate), General Aviation Manufacturers Association (GAMA).

• John Shea, Primary member (Christopher Martino, alternate), Helicopter Association International (HAI).

• Jody Bennett, Primary member, International Association of Machinists and Aerospace Workers (IAMAW).

• Richard Plunkett, Primary member (Brandon Anderson, alternate), International Federation of Professional and Technical Engineers (IFPTE)/Society of Professional Engineering Employees in Aerospace (SPEEA).

• Ken Thompson, Primary member (Keith DeBerry, alternate), National Air Transportation Association (NATA).

• Sierra Grimes, Primary member (Doug Carr, alternate), National Business Aviation Association (NBAA).

• David Spero, Primary member (Carlos Aguirre, alternate), Professional Aviation Safety Specialists (PASS).

• Gary Peterson, Primary member (Mark Erler, alternate), Transport Workers Union of America (TWU).

3. Opportunities for Others To Provide Input to the Task Force

DOT recognizes that there may be other organizations and individuals who would like to provide input for consideration by the Task Force. Each meeting will include a public session where stakeholders may provide such input. In addition, interested parties may submit input in writing by following the instructions that DOT has published at https://www.transportation.gov/ASCR.

4. Proceedings, Records, and Nature of the Required Reports

Based on the statutory provisions, the Task Force must submit its Report to Congress within one year of the first meeting of the Task Force. The Task Force Report to Congress shall be an independent report, not subject to DOT review or approval.

Therefore, DOT will facilitate the Task Force proceedings with a focus on ensuring a balanced and harmonious process, and providing a safe environment for open dialogue and full consideration of all perspectives (including addressing input provided by other interested parties). If there are areas in which the Task Force cannot come to consensus, DOT will encourage the Task Force to report more than a single perspective for Congressional consideration.

DOT will conduct the closed-door portion of Task Force meetings according to Chatham House rules, which stipulate that the proceedings are not to be recorded or reported externally in any form. Members of the Task Force agree not to disclose the internal proceedings or to attribute any particular viewpoint to any members of the Task Force. Members of the Task Force will be required to sign Nondisclosure Agreements. The purpose of this approach is to ensure a safe environment in which all Members of the Task Force may speak freely and openly, without fear of external disclosure.

Likewise, DOT does not intend to record or create detailed minutes, notes, or other official records of the proceedings, including either the public sessions or the closed-door sessions. Rather, each Member of the Task Force shall bear the responsibility to keep their own individual notes or records as necessary to help them formulate and prepare the Task Force Report to Congress.

Based on the statutory provisions, DOT must then submit a separate Report to Congress, within 180 days of the Task Force report, regarding the status or implementation of recommendations of the Task Force.

DOT will post copies of both reports on the website at https://www.transportation.gov/ASCR.

5. Relationship to Other Related Initiatives

DOT acknowledges that other task forces and other bodies have been established to examine supply-chain issues, including joint reviews and reports conducted in response to Executive Order 14017 (entitled “America's Supply Chains”) as well as other task forces, councils, and working groups established by other Federal agencies, industry associations, and other stakeholders.

DOT will review prior reports and analyses to identify issues that may need further examination in the particular context of the United States' aerospace industry. DOT will include such issues on the agenda for the initial meeting of the Task Force, and engage with Task Force members as well as other interested parties to consider the challenges and potential mitigation measures.

6. Schedule, Location, and Nature of the Task Force Meetings

The official meetings of the Task Force will take place in person at DOT Headquarters in Washington, DC. Each meeting will include a public session and a closed-door session. DOT may convene additional closed-door meetings or working sessions as necessary.

Parties interested in attending and/or speaking at any of the public sessions must register at least seven (7) business days in advance by following the instructions posted at https://www.transportation.gov/ASCR.

DOT is committed to providing equal access to this meeting for all participants. If you need alternative formats or services due to a disability, such as sign language interpretation or other ancillary aids, please contact the person listed in the FOR FURTHER INFORMATION CONTACT section at least thirty (30) business days in advance of each meeting.

The meetings will take place on the following dates:

• First meeting: Wednesday and Thursday, January 10-11, 2024 (with the public session taking place on Wednesday, January 10, 2024, from 10:00 a.m. to 12:00 p.m. Eastern time).

• Second meeting: Wednesday and Thursday, April 3-4, 2024 (with the public portion of the meeting taking place on Wednesday, April 3, 2024, from 10:00 a.m. to 12:00 p.m. Eastern time).

• Third meeting: Wednesday and Thursday, June 26-27, 2024 (with the public session taking place on Wednesday, June 26, 2024, from 10:00 a.m. to 12:00 p.m. Eastern time).

• Fourth and final meeting: Wednesday and Thursday, September 18-19, 2024 (with the public portion of the meeting taking place on Wednesday, September 18, 2024, from 10:00 a.m. to 12:00 p.m. Eastern time).

DOT does not anticipate publishing any further notices or information about this Task Force in the Federal Register. DOT will post any further information on the Task Force website at https://www.transportation.gov/ASCR.

Signed in Washington, DC.
Brian Elliott Black,
Facilitator, Aerospace Supply Chain Resiliency Task Force, Office of the Under Secretary, U.S. Department of Transportation.

[FR Doc. 2023-27085 Filed 12-8-23; 8:45 am]

BILLING CODE 4910-9X-P